SMALL BUSINESS ADMINISTRATION

[Disaster Declaration #13196 and #13197]

Colorado Disaster Number CO-00046

AGENCY: Small Business Administration.

ACTION: Amendment 1.

SUMMARY: This is an amendment of the Administrative declaration of a major disaster for the State of Colorado, effective 08/08/2012.

Incident: Wildfires in El Paso and Larimer Counties and Subsequent Flooding and Mudslides.

Incident Period: 06/09/2012 through 07/11/2012.

Effective Date: 08/08/2012.

Physical Loan Application Deadline Date: 10/09/2012.

EIDL Loan Application Deadline Date: 05/07/2013.

ADDRESSES: Submit completed loan applications to: U.S. Small Business Administration, Processing and Disbursement Center, 14925 Kingsport Road Fort, Worth, TX 76155.

FOR FURTHER INFORMATION CONTACT: A Escobar, Office of Disaster Assistance, U.S. Small Business Administration, 409 3rd Street SW., Suite 6050, Washington, DC 20416.

SUPPLEMENTARY INFORMATION: The notice of an Administrative declaration for the State of Colorado, dated 08/07/2012 is hereby amended to establish the incident period ending date of 07/11/2012.

All other information in the original declaration remains unchanged.

(Catalog of Federal Domestic Assistance Numbers 59002 and 59008)

Dated: August 9, 2012.
Karen G. Mills,
Administrator.

[FR Doc. 2012-20303 Filed 8-17-12; 8:45 am]

BILLING CODE 8025-01-P